DEPARTMENT OF TRANSPORTATION

National Highway Traffic Safety Administration

[Docket No. NHTSA-2014-0039]

Reports, Forms, and Recordkeeping Requirements Agency Information Collection Activity Under OMB Review

ACTION: Notice and request for comments.

SUMMARY: In compliance with the Paperwork Reduction Act of 1995 (44 U.S.C. 3501 et seq.), this notice announces that the Information Collection Request (ICR) abstracted below is being forwarded to the Office of Management and Budget (OMB) for review and comment. A Federal Register Notice with a 60-day comment period was published on April 21, 2014 (76 FR 7897-7898).

DATES: Comments must be submitted no later than August 25, 2014.

FOR FURTHER INFORMATION CONTACT: Ms. Laurie Flaherty, Coordinator, National 911 Program, U.S. Department of Transportation, Office of Emergency Medical Services, National Highway Traffic Safety Administration, 1200 New Jersey Avenue SE., NTI-140, W44-322, Washington, DC 20590, (202) 366-2705 or via email at laurie.flaherty@dot.gov.

SUPPLEMENTARY INFORMATION:

National Highway Traffic Safety Administration

Title: National 9-1-1 Profile Database as part of the National 9-1-1 Program.

OMB Control Number: 201106-2127-007.

Type of Request: Renewal of information collection Requirement.

Abstract: NHTSA is proposing to continue to collect and aggregate information from state level reporting entities that can be used to measure the progress of 9-1-1 authorities across the country in enhancing their existing operations and migrating to more advanced—Internet-Protocol-enabled emergency networks.

The data will be maintained in a “National 9-1-1 Profile Database.” One of the objectives of the National 9-1-1 Program is to develop, collect, and disseminate information concerning practices, procedures, and technology used in the implementation of E9-1-1 services and to support 9-1-1 Public Safety Answering Points (PSAPs) and related state and local public safety agencies for 9-1-1 deployment and operations. The National 9-1-1 profile database can be used to follow the progress of 9-1-1 authorities in enhancing their existing systems and implementing next-generation networks for more advanced systems.

The goal of the data collection process is to support a national 9-1-1 profile that will be used to help accurately measure and depict the current status and planned capabilities of 9-1-1 systems across the United States. Evaluations, based upon the data collected, will help draw attention to key roadblocks and solutions in the deployment process and to target possible future activities and resources consistent with the goals of the program. The information in aggregated form will be available to state and local stakeholders in the public safety community.

Affected Public: Under this proposed effort, NHTSA would specifically request reporting entities to voluntarily collect and annually report the data described above utilizing the described Web-based data collection tool. Reporting entities are state level 9-1-1 program officials, and the data reported will reflect state-level aggregated data. Where a state statute has not established a state-level 9-1-1 program, the authorized entity is the state E9-1-1 Coordinator designated under 47 U.S.C. 942(b)(3)(A)(ii).

The total number of respondents is identified at fifty-six (56), including the fifty states and the six U.S. Territories of Guam, U.S. Minor Outlying Islands, American Samoa, Mariana Islands, U.S. Virgin Islands, and Puerto Rico.

Estimated Number of Respondents: The maximum number of respondents is 56.

Estimated Number of Responses: NHTSA estimates 40-45 responses annually.

Estimated Total Annual Burden Hours: NHTSA estimates that the time required to annually report the data described utilizing the Web-based tool will be three hours (2 hours of preparation, 1 hour of entry to Web site) per reporting entity, for a total of 168 hours for all entities.

The respondents would not incur any reporting costs from the information collection beyond the time it takes to gather the information, prepare it for reporting and then populate the Web-based data collection tool. The respondents also would not incur any recordkeeping burden or recordkeeping costs from the information collection.

Send comments within 30 days, to the U.S. Department of Transportation, 1200 New Jersey Avenue SE., West Building Ground Floor, Room W12-140. Telephone: 1-800-647-5527.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication.

Frequency of Collection: Data will be collected annually.

ADDRESSES: Send comments regarding the burden estimate, including suggestions for reducing the burden, to the Office of Management and Budget, Attention: Desk Officer for the Office of the Secretary of Transportation, 725 17th Street NW., Washington, DC 20503.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Authority: The Paperwork Reduction Act of 1995; 44 U.S.C. Chapter 35, as amended; and 49 CFR 1:48.

Issued in Washington, DC, on July 22, 2014.
Jeffrey P. Michael,
Associate Administrator, Research and Program Development.

[FR Doc. 2014-17532 Filed 7-24-14; 8:45 am]

BILLING CODE 4910-59-P